NATIONAL FOUNDATION ON THE ARTS AND THE HUMANITIES

Meetings of Humanities Panel

AGENCY: National Endowment for the Humanities, National Foundation of the Arts and the Humanities.

ACTION: Notice of meetings.

SUMMARY: Pursuant to section 10(a)(2) of the Federal Advisory Committee Act, notice is hereby given that 25 meetings of the Humanities Panel will be held during July, 2013 as follows. The purpose of the meetings is for panel review, discussion, evaluation, and recommendation of applications for financial assistance under the National Foundation on the Arts and Humanities Act of 1965, as amended.

DATES: See SUPPLEMENTARY INFORMATION section for meeting dates.

ADDRESSES: The meetings will be held at the Old Post Office Building, 1100 Pennsylvania Ave. NW., Washington, DC 20506. See Supplementary Information section for meeting room numbers.

FOR FURTHER INFORMATION CONTACT: Lisette Voyatzis, Committee Management Officer, 1100 Pennsylvania Ave. NW., Room 529, Washington, DC 20506, or call (202) 606-8322. Hearing impaired individuals are advised that information on this matter may be obtained by contacting the National Endowment for the Humanities' TDD terminal at (202) 606-8282.

SUPPLEMENTARY INFORMATION:

Meetings

1. Date: July 09, 2013.

Time: 8:30 a.m. to 5:00 p.m.

Room: 420.

This meeting will discuss applications for Challenge Grants from colleges and universities, submitted to the Office of Challenge Grants.

2. Date: July 16, 2013.

Time: 8:30 a.m. to 5:00 p.m.

Room: 315.

This meeting will discuss applications for the Awards for Faculty grant program on the subjects of Literature, Philosophy, and the Arts, submitted to the Division of Research Programs.

3. Date: July 16, 2013.

Time: 8:30 a.m. to 5:00 p.m.

Room: Room 420.

This meeting will discuss applications for Challenge Grants from historical organizations, submitted to the Office of Challenge Grants.

4. Date: July 16, 2013.

Time: 8:30 a.m. to 5:00 p.m.

Room: 315.

This meeting will discuss applications for the Awards for Faculty grant program on the subjects of History, Social Science, and Education, submitted to the Division of Research Programs.

5. Date: July 17, 2013.

Time: 8:30 a.m. to 5:00 p.m.

Room: 415.

This meeting will discuss applications for the Awards for Faculty grant program on the subjects of American History, Politics, and Studies, submitted to the Division of Research Programs.

6. Date: July 18, 2013.

Time: 8:30 a.m. to 5:00 p.m.

Room: 420.

This meeting will discuss applications for Challenge Grants from colleges and universities, submitted to the Office of Challenge Grants.

7. Date: July 18, 2013.

Time: 8:30 a.m. to 5:00 p.m.

Room: 315.

This meeting will discuss applications for the Fellowships for University Teachers grant program on the subject of British Literature, submitted to the Division of Research Programs.

8. Date: July 18, 2013.

Time: 8:30 a.m. to 5:00 p.m.

Room: 415.

This meeting will discuss applications for the Fellowships for University Teachers grant program on the subject of British Literature, submitted to Division of Research Programs.

9. Date: July 22, 2013.

Time: 8:30 a.m. to 5:00 p.m.

Room: 415.

This meeting will discuss applications for the Fellowships for Advanced Research on Japan grant program, submitted to the Division of Research Programs.

10. Date: July 22, 2013.

Time: 8:30 a.m. to 5:00 p.m.

Room: 315.

This meeting will discuss applications for the Fellowships for University Teachers grant program on the subjects of Sociology, Anthropology, Psychology, and History of Science, submitted to the Division of Research Programs.

11. Date: July 23, 2013.

Time: 8:30 a.m. to 5:00 p.m.

Room: 315.

This meeting will discuss applications for the Fellowships for University Teachers grant program on the subject of Music, submitted to the Division of Research Programs.

12. Date: July 23, 2013.

Time: 8:30 a.m. to 5:00 p.m.

Room: 415.

This meeting will discuss applications for the Fellowships for University Teachers grant program on the subjects of Art History and Old World Archaeology, submitted to the Division of Research Programs.

13. Date: July 23, 2013.

Time: 8:30 a.m. to 5:00 p.m.

Room: 420.

This meeting will discuss applications for Challenge Grants from research institutions, submitted to the Office of Challenge Grants.

14. Date: July 24, 2013.

Time: 8:30 a.m. to 5:00 p.m.

Room: 315.

This meeting will discuss applications for the Fellowships for University Teachers grant program on the subject of Philosophy, submitted to the Division of Research Programs.

15. Date: July 24, 2013.

Time: 8:30 a.m. to 5:00 p.m.

Room: 415.

This meeting will discuss applications for the Fellowships for University Teachers grant program on the subject of Philosophy, submitted to the Division of Research Programs.

16. Date: July 25, 2013.

Time: 8:30 a.m. to 5:00 p.m.

Room: 420.

This meeting will discuss applications for Challenge Grants on the subjects of Art and Anthropology, submitted to the Office of Challenge Grants.

17. Date: July 25, 2013.

Time: 8:30 a.m. to 5:00 p.m.

Room: 415.

This meeting will discuss applications for the Fellowships for University Teachers grant program on the subjects of Literary Theory and Film, submitted to the Division of Research Programs.

18. Date: July 25, 2013.

Time: 8:30 a.m. to 5:00 p.m.

Room: 315.

This meeting will discuss applications for the Fellowships for University Teachers grant program on the subject of Comparative Literature, submitted to the Division of Research Programs.

19. Date: July 26, 2013.

Time: 8:30 a.m. to 5:00 p.m.

Room: 315

This meeting will discuss applications for the Fellowships for University Teachers grant program on the subject of American History, submitted to the Division of Research Programs.

20. Date: July 29, 2013.

Time: 8:30 a.m. to 5:00 p.m.

Room: 315.

This meeting will discuss applications for the Fellowships for University Teachers grant program on the subjects of South and Southeast Asian Studies, submitted to the Division of Research Programs.

21. Date: July 30, 2013.

Time: 8:30 a.m. to 5:00 p.m.

Room: 420.

This meeting will discuss applications for Challenge Grants for funding public programming, submitted to the Office of Challenge Grants.

22. Date: July 30, 2013.

Time: 8:30 a.m. to 5:00 p.m.

Room: 315.

This meeting will discuss applications for the Fellowships for University Teachers grant program on the subject of European History, submitted to the Division of Research Programs.

23. Date: July 30, 2013.

Time: 8:30 a.m. to 5:00 p.m.

Room: 415.

This meeting will discuss applications for the Fellowships for University Teachers grant program on the subject of European History, submitted to the Division of Research Programs.

24. Date: July 31, 2013.

Time: 8:30 a.m. to 5:00 p.m.

Room: 415.

This meeting will discuss applications for the Fellowships for University Teachers grant program on the subject of American Literature, submitted to the Division of Research Programs.

25. Date: July 31, 2013.

Time: 8:30 a.m. to 5:00 p.m.

Room: 315.

This meeting will discuss applications for the Fellowships for University Teachers grant program and Anthropology and New World Archaeology, submitted to the Division of Research Programs.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: June 10, 2013.
Lisette Voyatzis,
Committee Management Officer.

[FR Doc. 2013-14108 Filed 6-13-13; 8:45 am]

BILLING CODE 7536-01-P